DEPARTMENT OF HEALTH AND HUMAN SERVICES

Centers for Disease Control and Prevention and Agency for Toxic Substances and Disease Registry

(Program Announcement 03012)

Public Health Conference Support Cooperative Agreement Program; Notice of Availability of Funds Amendment

A notice announcing the availability of fiscal year (FY) 2003 funds for a cooperative agreement program for Public Health Conference Support published in the Federal Register on January 10, 2003, Volume 68, Number 7, and pages 1463-1467. The notice is amended as follows: On page 1466, first column, under Section G. Submission and Deadline, paragraph one should read: For conferences May 15, 2003-September 30, 2004. Also on page 1466, first column, under Section G. Deadline, paragraph three, should read: If your conference dates fall between October 1, 2002 and May 14, 2003; and paragraph four, should read: May 15, 2003 to September 30, 2004.

Dated: January 31, 2003.
Sandra R. Manning,
CGFM, Director, Procurement and Grants Office Centers for Disease Control and Prevention.

[FR Doc. 03-3029 Filed 2-6-03; 8:45 am]

BILLING CODE 4163-18-M